DEPARTMENT OF HEALTH AND HUMAN SERVICES

Administration for Children and Families

Submission for OMB Review; Personal Responsibility Education Program (PREP) Performance Measures and Adulthood Preparation Subjects (PMAPS) Studies—Data Collection Related to the Performance Measures Study—Revision (OMB #0970-0497)

AGENCY: Office of Planning, Research, and Evaluation, Administration for Children and Families, HHS.

ACTION: Request for public comment.

SUMMARY: A goal of the Performance Measures and Adulthood Preparation Subjects (PMAPS) studies project is to collect, analyze, and report on performance measures data for the Personal Responsibility Education Program (PREP) programs. The Office of Planning, Research, and Evaluation (OPRE) and the Family and Youth Services Bureau (FYSB) in the Administration for Children and Families (ACF) request a revision to a currently approved information collection (OMB No. 0970-0497; expiration date: 04/30/2020). The purpose of the request is to make adaptions to the participant entry and exit surveys, and continue the ongoing data collection of the performance measures from PREP grantees.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The PMAPS studies consist of two components: The Performance Measures Study and the Adulthood Preparation Subjects Study. The data collection for the Adulthood Preparation Subjects Study is complete. This notice is specific to data collection activities for the Performance Measures Study only. The Performance Measures Study component includes collection and analysis of performance measure data from State PREP (SPREP), Tribal PREP (TPREP), Competitive PREP (CPREP), and Personal Responsibility Education Innovative Strategies (PREIS) grantees. Data will be used to determine if PREP and PREIS grantees are meeting performance benchmarks related to the program's mission and priorities.

This request includes the development of adapted participant entry and exit surveys for middle school students (6th, 7th, and 8th grade youth) that exclude the most sensitive questions pertaining to sexual behavior. This is because some of the PREP middle school curricula do not include topics on sexual behavior, i.e., focus only on healthy relationship education. The adapted surveys will be used by all grantees that serve middle school youth. In addition, some minor edits have been made to the high school surveys.

Respondents: Performance measurement data collection instruments will be administered to individuals representing SPREP, TPREP, CPREP, and PREIS grantees, their sub-awardees, and program participants.

Annual Burden Estimates
Instrument | Total number of respondents | Annual number of respondents | Number of responses per respondent | Average burden hours per response | Annual burden hours
PREP Participant Entry Survey (all versions) | 319,673 | 106,558 | 1 | 0.15 | 15,984
PREP Participant Exit Survey (all versions) | 291,624 | 97,208 | 1 | 0.13333 | 12,961
Performance Reporting System Data Form—State grantees | 153 | 51 | 2 | 18 | 1,836
Performance Reporting System Data Form—TPREP grantees | 28 | 9 | 2 | 18 | 324
Performance Reporting System Data Form—CPREP grantees | 75 | 25 | 2 | 14 | 700
Performance Reporting System Data Form—PREIS grantees | 38 | 13 | 2 | 14 | 364
Performance Reporting System Data Form—State sub-awardees | 987 | 329 | 2 | 14 | 9,212
Performance Reporting System Data Form—TPREP sub-awardees | 85 | 28 | 2 | 14 | 784
Performance Reporting System Data Form—CPREP sub-awardees | 110 | 37 | 2 | 12 | 888
Performance Reporting System Data Form—PREIS sub-awardees | 66 | 22 | 2 | 12 | 528
Estimated Total Annual Burden Hours: |  |  |  |  | 43,581

(Authority: Sec. 50503, Pub. L. 115-123)

Mary B. Jones,
ACF/OPRE Certifying Officer.

[FR Doc. 2020-09189 Filed 4-29-20; 8:45 am]

BILLING CODE 4184-37-P